SMALL BUSINESS ADMINISTRATION

[Declaration of Disaster #3479]

Commonwealth of the Northern Mariana Islands (Amendment #1)

In accordance with information received from the Federal Emergency Management Agency dated December 16, 2002, the above-numbered declaration is hereby amended to establish the incident period as beginning on December 8, 2002 and continuing through December 16, 2002.

All other information remains the same, i.e., the deadline for filing applications for physical damage is February 24, 2003, and for economic injury the deadline is September 24, 2003.

(Catalog of Federal Domestic Assistance Program Nos. 59002 and 59008.)
Dated: December 31, 2002.
S. George Camp,
Acting Associate Administrator for Disaster Assistance.

[FR Doc. 03-509 Filed 1-9-03; 8:45 am]

BILLING CODE 8025-01-P